DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-0361.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Extension to the currently approved 0930-0393 Fast Track Generic Clearance for the Collection of Qualitative Feedback on the Substance Abuse and Mental Health Services Administration (SAMHSA) Service Delivery.

Executive Order 12862 directs Federal agencies to provide service to the public that matches or exceeds the best service available in the private sector. In order to work continuously to ensure that our programs are effective and meet our customers' needs, the Substance Abuse and Mental Health Services Administration (SAMHSA) seeks to obtain the Office of Management and Budget (OMB) approval of a generic clearance to collect qualitative feedback on our service delivery. By qualitative feedback we mean information that provides useful insights on perceptions and opinions but are not statistical surveys that yield quantitative results that can be generalized to the population of study.

This collection of information is necessary to enable SAMHSA to garner customer and stakeholder feedback in an efficient, timely manner, in accordance with our commitment to improving service delivery. The information collected from our customers and stakeholders will help ensure that users have an effective, efficient, and satisfying experience with SAMHSA's programs. This feedback will provide insights into customer or stakeholder perceptions, experiences and expectations, provide an early warning of issues with service, or focus attention on areas where communication, training or changes in operations might improve delivery of products or services. These collections will allow for ongoing, collaborative and actionable communications between SAMHSA and its customers and stakeholders. It will also allow feedback to contribute directly to the improvement of program management.

This is an extension to SAMHSA's currently approved 0930-0393 Fast Track Generic Clearance for the Collection of Qualitative Feedback on SAMHSA Service Delivery that replaced multiple previously approved SAMHSA information collections including 0930-0197 Voluntary Customer Satisfaction Surveys to Implement Executive Order 12862 in SAMHSA, 0930-0196 Pretesting of Substance Abuse Prevention and Treatment and Mental Health Services Communications Messages, and 0930-0313 SAMHSA's Publications and Digital Products website Registration Survey. Changes were not made to the currently approved Information Collection Request. The active information collections (ICs) under Generic collections 0930-0196 and 0930-0197 were transferred to the Fast Track Generic. After the IC transferred, the 0196 and 0197 Generic collections were discontinued. The 0930-0313 SAMHSA's Publications and Digital Products website Registration Survey consisted of customer satisfaction/feedback questions along with a SAMHSA website survey and a SAMHSA store survey developed utilizing the main pool of questions. The 0930-0313 information collection became an IC under the new Fast Track once it is approved and the 0313-information collection request (ICR) was discontinued. SAMHSA will continue due diligence to improve efficiency and lower burden by determining if other information collections are better served by becoming part of the Fast Track Generic.

A variety of instruments and platforms will be used to collect information from respondents. The annual burden hours requested (60,250) are based on the number of collections we expect to conduct over the requested period for this clearance. The burden estimates were calculated based on replacing previously approved burden hours for ICRs 0930-0197, 0930-0196 and 0930-0313 and internal assessments of projected IC submission over the next three years.

Estimated Annual Reporting Burden
Type of collection | Number of respondents | Response per respondent | Hours per response | Total hours | Hourly wage rate ($) | Total hour costs ($)
In-person surveys, online surveys, telephone interviews/surveys, in-person observation/testing, interviews | 75,000 | 1 | 0.37 | 27,750 | $27.00 | $749,250.00
Focus groups | 10,000 | 1 | 2 | 20,000 | 27.00 | 540,000.00
Self-administered questionnaires, customer comment cards, interactive voice surveys | 10,000 | 1 | 0.25 | 2,500 | 27.00 | 67,500.00
Unspecified collection formats | 10,000 | 1 | 1 | 10,000 | 27.00 | 270,000.00

Send comments to Alicia Broadus, SAMHSA Reports Clearance Officer, 5600 Fisher Lane, Room 15E57A, Rockville, MD 20852 OR email him a copy at Alicia.Broadus@samhsa.hhs.gov. Written comments should be received by October 27, 2025.

Alicia Broadus,
Public Health Advisor.

[FR Doc. 2025-16385 Filed 8-26-25; 8:45 am]

BILLING CODE P